DEPARTMENT OF LABOR

Employment and Training Administration

[TA-W-61,623]

Mahle Inc., Holland, MI; Notice of Termination of Investigation

Pursuant to section 221 of the Trade Act of 1974, as amended, an investigation was initiated on June 5, 2007 in response to a petition filed by a company official on behalf of workers at MAHLE Inc., Holland, Michigan.

The petitioner has requested that the petition be withdrawn. Consequently, the investigation has been terminated.

Signed at Washington, DC, this 22nd day of June, 2007.
Linda G. Poole,
Certifying Officer, Division of Trade Adjustment Assistance.

[FR Doc. E7-12907 Filed 7-3-07; 8:45 am]

BILLING CODE 4510-FN-P